DEPARTMENT OF STATE

[Public Notice: 7410]

Bureau of Western Hemisphere Affairs; Executive Order 11423, as Amended; Notice of Receipt of Application for a Presidential Permit To Reconfigure and Expand the Calexico West Land Port of Entry (LPOE) on the U.S.-Mexico Border at Calexico, CA and Mexicali, Baja California, Mexico

AGENCY: Department of State.

ACTION: Notice.

SUMMARY: The Department of State hereby gives notice that, on March 11, 2011, it received an application for a Presidential Permit to authorize the reconfiguration and expansion of the Calexico West Land Port of Entry (LPOE) on the U.S.-Mexico border at Calexico, California and Mexicali, Baja California, Mexico. The General Services Administration (GSA) filed this application and is acting as the project's sponsor. The Department of State's jurisdiction over this application is based upon Executive Order 11423 of August 16, 1968, as amended. As provided in E.O. 11423, the Department is circulating this application to relevant Federal and State agencies for review and comment. Under E.O. 11423, the Department has the responsibility to determine, taking into account input from these agencies and other stakeholders, whether the proposed expansion of this border crossing is in the U.S. national interest. GSA has informed the Department that it plans to release its final Environmental Impact Statement (EIS) regarding this project to the public on June 3, 2011. GSA released a draft EIS in June, 2010, which is available at http://www.gsa.gov/graphics/pbs/Calexico_PDES_June_2010b508.pdf. The Department of State received a copy of that draft EIS and provided comments to GSA. GSA has also informed the Department that it anticipates that the GSA Administrator will be in a position to reach an official Record of Decision on this project by July 2011.

DATES: Interested members of the public are invited to submit written comments regarding this application on or before 14 days after the GSA Regional Administrator reaches his/her Record of Decision to Mr. Stewart Tuttle, U.S.-Mexico Border Affairs Coordinator, via e-mail at WHA-BorderAffairs@state.gov or by mail at WHA/MEX—Room 3908, Department of State, 2201 C St. NW., Washington, DC 20520.

FOR FURTHER INFORMATION CONTACT: Mr. Stewart Tuttle, U.S.-Mexico Border Affairs Coordinator, via e-mail at WHA-BorderAffairs@state.gov; by phone at 202-647-6356; or by mail at WHA/MEX—Room 3908, Department of State, 2201 C St. NW., Washington, DC 20520. General information about Presidential Permits is available on the Internet at http://www.state.gov/p/wha/rt/permit/.

SUPPLEMENTARY INFORMATION: This application and related environmental assessment documents are available for review in the Office of Mexican Affairs, Border Affairs Unit, Department of State, during normal business hours.

Dated: April 4, 2011.
Edward Alexander Lee,
Director, Office of Mexican Affairs, Department of State.

[FR Doc. 2011-8433 Filed 4-7-11; 8:45 am]

BILLING CODE 4710-29-P